PEACE CORPS

Proposed Information Collection Renewals

ACTION: Submission for Office of Management and Budget (OMB) review; comment request.

SUMMARY: The Peace Corps has submitted the following two (2) information collection to the Office of Management and Budget (OMB) for extension under the provisions of the Paperwork Reduction Act of 1995. This notice invites the public to comment on the renewal of two information collections: Correspondence Match Educator Enrollment Form and Teacher Survey (OMB 0420-0513) and Peace Corps Week Brochure (OMB 0420-0529). Peace Corps invites comments on whether the proposed collections of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

DATES: Comments regarding this collection must be received on or before February 2, 2011.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOIA Officer, Peace Corps, 1111 20th Street, NW., Washington, DC 20526, (202) 692-1236, or e-mail at pcfr@peacecorps.gov. Copies of available documents submitted to OMB may be obtained from Denora Miller.

SUPPLEMENTARY INFORMATION: Proposal to renew the following three (3) information collections currently approved collection of information:

1. Title: Correspondence Match Enrollment Form and Teacher Survey.

OMB Control Number: 0420-0513.

Type of Review: Extension, without change, of a currently approved collection.

Respondents: Educators interested in promoting global education in the classroom.

Respondents' Obligation To Reply: Voluntary.

Burden to the Public
| Educator form | Teacher survey
a. Annual reporting burden: | 1667 hours | 250 hours
b. Estimated average burden response: | 10 minutes | 15 minutes
c. Frequency of response: | Annually | Once
d. Estimated number of likely respondents: | 10,000 | 1,000
e. Estimated cost to respondents: | $0.00 | $0.00

Purpose of collection: The information is used to make suitable matches between the educators and currently serving Peace Corps Volunteers as well as assess programmatic functions.

2. Title: Peace Corps Week Brochure.

OMB Control Number: 0420-0529.

Type Of Review: Extension, without change, of a currently approved information collection.

Respondents: Returned Peace Corps Volunteers and parents of currently serving Peace Corps Volunteers.

Respondents' Obligation To Reply: Voluntary.

Burden to the Public
a. Estimated total annual reporting burden: | 500 hours
b. Estimated average burden response: | 3 minutes
c. Frequency of response: | Once
d. Estimated number of likely respondents: | 10,000
e. Estimated cost to respondents: | $0.00

Purpose of collection: This collection allows the Returned Volunteer Services Office to identify and provide support for interested people, promote these activities in local communities, and maintain address databases for future contact.

Dated: December 23, 2010.
Garry W. Stanberry,
Deputy Associate Director for Management.

[FR Doc. 2010-32915 Filed 12-30-10; 8:45 am]

BILLING CODE 6051-01-M